Title 3—

The President

Proclamation 7871 of February 28, 2005

American Red Cross Month, 2005

By the President of the United States of America

A Proclamation

Americans have a long history of rising to meet humanitarian challenges, and the American Red Cross is a leader in these efforts. Since 1881, the American Red Cross has met disaster with compassion and courage. During American Red Cross Month, we honor this dedication and reaffirm the importance of volunteering time and contributing resources to make our communities and the world better.

From offering blood drives and lifesaving courses to providing disaster relief services at home and abroad, American Red Cross employees and volunteers work countless hours to care for those in need and serve a cause greater than self. As a result of the recent tsunami in the Indian Ocean, over 150,000 lives were lost and many more were left homeless and without food and water. The American Red Cross swiftly dispatched relief workers to assist those affected, and to distribute supplies, counsel survivors, and help people return home.

Here at home, the American Red Cross helps support our troops by transmitting emergency messages to members of the Armed Forces and their families. In this past year, the Red Cross has also contributed significantly to relief efforts for hurricanes in Florida, flooding in Western Pennsylvania, wildfires in the Western United States, and mudslides in California. These good works provide hope and healing to those dealing with profound loss and demonstrate the character of the American Red Cross.

NOW, THEREFORE, I, GEORGE W. BUSH, President of the United States of America and Honorary Chairman of the American Red Cross, by virtue of the authority vested in me by the Constitution and laws of the United States, do hereby proclaim March 2005 as American Red Cross Month. I commend the efforts of American Red Cross employees and volunteers, and I encourage all Americans to donate their time, energy, and talents to support this organization's humanitarian mission.

IN WITNESS WHEREOF, I have hereunto set my hand this twenty-eighth day of February, in the year of our Lord two thousand five, and of the Independence of the United States of America the two hundred and twenty-ninth.

B

[FR Doc. 05-4321

Filed 3-2-05; 10:26 am]

Billing code 3195-01-P